SECURITIES AND EXCHANGE COMMISSION

[Release No. 34-96747; File No. SR-CboeBZX-2022-045]

Self-Regulatory Organizations; Cboe BZX Exchange, Inc.; Notice of Withdrawal of Proposed Rule Change To Amend the Opening Auction Process Provided Under Rule 11.23(b)(2)(B)

January 25, 2023.

On August 15, 2022, Cboe BZX Exchange, Inc. (“BZX” or “Exchange”) filed with the Securities and Exchange Commission (“Commission”), pursuant to Section 19(b)(1) of the Securities Exchange Act of 1934 (“Act”) ¹ and Rule 19b-4 thereunder,² a proposed rule change to amend the Opening Auction process under BZX Rule 11.23(b)(2)(B). The proposed rule change was published for comment in the Federal Register on August 31, 2022.³ On October 12, 2022, pursuant to Section 19(b)(2) of the Act,⁴ the Commission designated a longer period within which to approve the proposed rule change, disapprove the proposed rule change, or institute proceedings to determine whether to disapprove the proposed rule change.⁵

¹ 15 U.S.C. 78s(b)(1).

² 17 CFR 240.19b-4.

³ See Securities Exchange Act Release No. 95601 (Aug. 25, 2022), 87 FR 53514.

⁴ 15 U.S.C. 78s(b)(2).

⁵ See Securities Exchange Act Release No. 96038, 87 FR 63115 (Oct. 18, 2022). The Commission designated November 29, 2022 as the date by which the Commission shall approve or disapprove, or institute proceedings to determine whether to disapprove, the proposed rule change.

On November 23, 2022, the Commission instituted proceedings under Section 19(b)(2)(B) of the Act ⁶ to determine whether to approve or disapprove the proposed rule change.⁷ The Commission received one comment on the proposed rule change.⁸

⁶ 15 U.S.C. 78s(b)(2)(B).

⁷ See Securities Exchange Act Release No. 96384, 87 FR 73367 (Nov. 29, 2022).

⁸ The comment is available at: https://www.sec.gov/comments/sr-cboebzx-2022-045/srcboebzx2022045-20153179-320685.pdf.

On January 23, 2023, the Exchange withdrew the proposed rule change (File No. SR-CboeBZX-2022-045).

For the Commission, by the Division of Trading and Markets, pursuant to delegated authority.⁹
⁹ 17 CFR 200.30-3(a)(12).
J. Matthew DeLesDernier,
Deputy Secretary.

[FR Doc. 2023-01879 Filed 1-30-23; 8:45 am]

BILLING CODE 8011-01-P